DEPARTMENT OF COMMERCE

International Trade Administration

Amended Trade Mission Application Deadline and Updated Schedule to the Executive-Led Cybersecurity Business Development Mission to Taiwan, South Korea, and Japan

AGENCY: International Trade Administration, Department of Commerce.

ACTION: Notice.

SUMMARY: The United States Department of Commerce, International Trade Administration (ITA), is organizing an Executive-Led Cybersecurity Business Development Mission to Taiwan, South Korea, and Japan on September 18-26, 2023. This notice is to update the prior Federal Register notice to reflect that the application deadline is now extended to July 21, 2023 and the proposed timetable has been updated to include additional events.

FOR FURTHER INFORMATION CONTACT:

Jeffrey Odum, Events Management Task Force, International Trade Administration, U.S. Department of Commerce, 1401 Constitution Avenue NW, Washington DC 20230; telephone (202) 482-6397 or email Jeffrey.Odum@trade.gov.

Pompeya Lambrecht, Senior International Trade Specialist, U.S. Commercial Service, Arlington, VA, (703) 235-0102, pompeya.lambrecht@trade.gov.

Gemal Brangman, Director, Trade Events Management Task Force, Washington, DC, (202) 482-3773, gemal.Brangman@trade.gov.

SUPPLEMENTARY INFORMATION: Amendment to Revise the Trade Mission Deadline for Submitting Applications and Updated Schedule.

Background

Executive-Led Cybersecurity Business Development Mission to Taiwan, South Korea, and Japan

The International Trade Administration has determined that to allow for optimal execution of recruitment the application deadline has been extended from June 23, 2023, to July 21, 2023. Applications may be accepted after that date if space remains and scheduling constraints permit. Interested U.S. companies and trade associations/organizations that have not already submitted an application are encouraged to do so. The U.S. Department of Commerce will review applications and make selection decisions on a rolling basis in accordance with the 88 FR 39224 (June 15, 2023). The applicants selected will be notified as soon as possible. The proposed schedule is updated as follows:

Proposed Timetable

* Note: The final schedule and potential site visits will depend on the availability of host government, authorities and business officials; specific goals of mission participants; and ground transportation.

Sunday, September 17, 2023 | Trade Mission Participants Arrive in Taipei.
Monday, September 18, 2023 | Welcome and Taiwan Briefing. Cybersecurity Maturity Model Certification (CMMC) Seminar. One-on-One business matchmaking appointments. Networking Reception at residence of the Deputy Director of the American Institute in Taiwan (To Be Confirmed).
Tuesday, September 19, 2023 | Attend U.S. Business Day forum to meet with Taiwan public and private sector contacts. One-on-One business matchmaking appointments. Networking Lunch (No-Host). One-on-One business matchmaking appointments.
Wednesday, September 20, 2023 | Trade Mission Participants Travel/Arrive to Seoul.
Thursday, September 21, 2023 | Welcome and South Korea Briefing. Cybersecurity related engagements and site visits.
Friday, September 22, 2023 | U.S.-Korea Cybersecurity Forum. Networking Lunch (No-Host). One-on-One business matchmaking appointments. Networking Reception.
Saturday, September 23, 2023 | Trade Mission Participants Stay in Seoul or Travel to Tokyo.
Sunday, September 24, 2023 | Trade Mission Participants Arrive in Tokyo. Welcome cocktail hour with mission delegates and U.S. Embassy officials.
Monday, September 25, 2023 | Welcome and Japan Briefing. One-on-One business matchmaking appointments. Networking Reception at U.S. Embassy.
Tuesday, September 26, 2023 | Cybersecurity-related engagements and site visits in Tokyo Metropolitan Area.

Gemal Brangman,
Director, Trade Events Management Task Force.

[FR Doc. 2023-14724 Filed 7-17-23; 8:45 am]

BILLING CODE 3510-DR-P